NATIONAL FOUNDATION ON THE ARTS AND THE HUMANITIES

National Endowment for the Arts

National Council on the Arts 185th Meeting

AGENCY: National Endowment for the Arts, National Foundation on the Arts and Humanities.

ACTION: Notice of meeting.

SUMMARY: Pursuant to section 10(a)(2) of the Federal Advisory Committee Act (Pub. L. 92-463), as amended, notice is hereby given that a meeting of the National Council on the Arts will be held at Constitution Center, 400 7th St. SW., Washington, DC 20506. Agenda times are approximate.

DATES: Thursday, June 25, 2015 from 1:00 p.m. to 3:00 p.m. (This session will be closed for discussion of the National Medal of Arts) and Friday, June 26, 2015 from 9:00 a.m. to 11:15 a.m. in Conference Rooms A and B (This session will be open and also will be webcast).

FOR FURTHER INFORMATION CONTACT: Office of Public Affairs, National Endowment for the Arts, Washington, DC 20506, at 202/682-5570.

SUPPLEMENTARY INFORMATION: The meeting on June 26th will be open to the public on a space available basis. The tentative agenda is as follows: The session will begin at 9:00 a.m. with opening remarks and voting on recommendations for funding and rejection and guidelines, followed by updates from the Chairman. There also will be the following presentations (times are approximate): from 9:30 a.m. to 10:00 a.m.—Teaser of the First Vignettes from NEA's “Tell Your Stories” Campaign (Jessamyn Sarmiento, Director of Public Affairs, NEA) and from 10:00 a.m. to 11:00 a.m.—Presentations on Festivals and Community Engagement. From 11:00-11:15 there will be concluding remarks from the Chairman and announcement of voting results. The meeting will adjourn at 11:15 a.m.

The Friday, June 26th session also will be webcast. To register to watch the webcasting of this open session of the meeting, go to http://artsgov.adobeconnect.com/nca-june-2015-webcast/event/registration.html.

If, in the course of the open session discussion, it becomes necessary for the Council to discuss non-public commercial or financial information of intrinsic value, the Council will go into closed session pursuant to subsection (c)(4) of the Government in the Sunshine Act, 5 U.S.C. 552b, and in accordance with the February 15, 2012 determination of the Chairman. Additionally, discussion concerning purely personal information about individuals, such as personal biographical and salary data or medical information, may be conducted by the Council in closed session in accordance with subsection (c)(6) of 5 U.S.C. 552b.

Any interested persons may attend, as observers, Council discussions and reviews that are open to the public. If you need special accommodations due to a disability, please contact the Office of Accessibility, National Endowment for the Arts, 1100 Pennsylvania Avenue NW., Washington, DC 20506, 202/682-5733, Voice/T.T.Y. 202/682-5496, at least seven (7) days prior to the meeting.

Dated: May 29, 2015.
Kathy Plowitz-Worden,
Panel Coordinator, Office of Guidelines and Panel Operations.

[FR Doc. 2015-13460 Filed 6-2-15; 8:45 am]

BILLING CODE 7537-01-P